DEPARTMENT OF COMMERCE

National Oceanic and Atmospheric Administration

[I.D. 072301A]

Gulf of Mexico Fishery Management Council; Public Meeting

AGENCY: National Marine Fisheries Service (NMFS), National Oceanic and Atmospheric Administration (NOAA), Commerce.

ACTION: Notice of public meetings.

SUMMARY: The Gulf of Mexico Fishery Management Council will convene public meetings of the Shrimp Advisory Panel (AP) and the Standing and Special Shrimp Scientific and Statistical Committee (SSC).

DATES: The AP will meet on August 13, 2001, beginning at 8:30 a.m. and will conclude by 2:30 p.m. The SSC will meet on August 13, 2001, beginning at 3 p.m. and will conclude by 5 p.m.

ADDRESSES: The meetings will be held at the New Orleans Airport Hilton, 901 Airline Highway, Kenner, Louisiana; telephone: 504-469-5000.

Council address: Gulf of Mexico Fishery Management Council, 3018 U.S. Highway 301 North, Suite 1000, Tampa, Florida 33619.

FOR FURTHER INFORMATION CONTACT: Dr. Richard Leard, Senior Fishery Biologist, Gulf of Mexico Fishery Management Council; telephone 813-228-2815.

SUPPLEMENTARY INFORMATION: The SSC and AP will meet to review and Draft Amendment 10 to the Fishery Management Plan for the Shrimp Fishery of the Gulf of Mexico, U.S. Waters with Environmental Assessment, Regulatory Impact Review, Initial Regulatory Flexibility Analysis, and Social Impact Assessment. This amendment contains alternatives for requiring additional measures to reduce bycatch in the shrimp fishery on the west coast of Florida, south and east of Cape San Blas (85°30' W. long.) Measures being considered include area and/or seasonal closures, as well as requiring bycatch reduction devices.

Although other non-emergency issues not on the agenda may come before the SSC/AP for discussion, in accordance with the Magnuson-Stevens Fishery Conservation and Management Act, those issues may not be the subject of formal action during these meetings. Actions of the SSC/AP will be restricted to those issues specifically identified in the agendas and any issues arising after publication of this notice that require emergency action under section 305(c) of the Magnuson-Stevens Fishery Conservation and Management Act, provided the public has been notified of the Council's intent to take action to address the emergency. Copies of the agenda can be obtained by calling 813-228-2815.

Special Accommodations

This meeting is physically accessible to people with disabilities. Requests for sign language interpretation or other auxiliary aids should be directed to Anne Alford at the Council (see ADDRESSES) by August 7, 2001.

Dated: July 23, 2001.
Theophilus Brainerd,
Acting Director, Office of Sustainable Fisheries, National Marine Fisheries Service.

[FR Doc. 01-18670 Filed 7-25-01; 8:45 am]

BILLING CODE 3510-22-S